DEPARTMENT OF THE INTERIOR

National Park Service

Draft General Management Plan/Draft Environmental Impact Statement, New Bedford Whaling National Historical Park, Massachusetts

AGENCY: National Park Service, Department of the Interior.

ACTION: Notice of availability of Draft General Management Plan/Draft Environmental Impact Statement; notice of public meeting.

SUMMARY: Pursuant to Council on Environmental Quality regulations and National Park Service Policy, this notice announces the availability for public review of a Draft General Management Plan/Draft Environmental Impact Statement for New Bedford Whaling National Historical Park, Bristol County, Massachusetts. In accordance with the National Environmental Policy Act 102(2)(C ) of 1969, the environmental impact statement was prepared to assess the impacts of implementing the general management plan.

The Draft General Management Plan/Draft Environmental Impact Statement presents a Proposal and two Management Alternatives, then assesses the potential environmental and socioeconomic effects of the actions presented on site resources, visitor experience, and the surrounding area. The Proposal and the Alternatives differ in their approaches to management. In the Proposal, the National Park Service would share stewardship responsibility for resource protection with its partners and offer visitor programs complementary to partners' activities. NPS interpretive and educational activities would promote resource stewardship. Alternative 1 (Management Option 1) is essentially the status quo, the National Park Service would bring a national voice and visibility to New Bedford through its publications and facilitate coordination of park partners' visitor-services and resource-protection programs. In Alternative 3 (Management Option 3) the National Park Service would assume the lead role among park partners, exercising intensive and extensive involvement in resource preservation, collections management, and visitor programming.

DATES: Comments on the draft EIS should be received no later than December 1, 2000. A public meeting will be held in the City of New Bedford on Wednesday, October 18, 2000 at the New Bedford Free Public Library, 613 Pleasant Street from 7 to 8:45 p.m.

SUPPLEMENTARY INFORMATION: Copies of the document will be available for review at the following locations:

New Bedford Whaling National Historical Park—Visitor Center, 47 North Second Street, New Bedford, MA. The visitor center is open everyday from 9 a.m. to 4 p.m.

New Bedford Free Public Library, 613 Pleasant Street, New Bedford, MA. The library is open Monday through Thursday from 9 a.m. to 9 p.m.; Friday and Saturday hours are 9 a.m. to 5 p.m. The library is closed on Sundays.

To request copies of the document, please call (508) 996-4095, fax (508) 994-8922, or write Superintendent, New Bedford Whaling National Historical Park, 33 William Street, New Bedford, Massachusetts 02740.

Comments on the Draft General Management Plan/Draft Environmental Impact Statement should be submitted to John Piltzecker, Superintendent, New Bedford Whaling National Historical Park, 33 William Street, New Bedford, Massachusetts 02740. Comments may be faxed to the Superintendent at (508) 994-8922.

John Piltzecker,
Superintendent, New Bedford Whaling National Historical Park.

[FR Doc. 00-24917 Filed 9-27-00; 8:45 am]

BILLING CODE 4310-70-P